DEPARTMENT OF HOUSING AND URBAN DEVELOPMENT

[Docket No. FR-5750-N-21]

Federal Property Suitable as Facilities To Assist the Homeless

Correction

In Notice document 2014-11695, appearing on pages 29789-29791 in the Issue of Friday, May 23, 2014, make the following correction:

On page 29791, in the first column, after the seventeenth line and prior to the word “California”, the following headings were inadvertently omitted:

“Unsuitable Properties

Building”

[FR Doc. C1-2014-11695 Filed 6-2-14; 8:45 am]

BILLING CODE 1505-01-D